DEPARTMENT OF ENERGY

Federal Energy Regulatory Commission

[Docket No. RP02-369-000]

Texas Gas Transmission Corporation; Notice of Proposed Changes in FERC Gas Tariff

July 2, 2002.

Take notice that on June 25, 2002, Texas Transmission Corporation (Texas Gas) tendered for filing as part of its FERC Gas Tariff, First Revised Volume No. 1, the following revised tariff sheets to become effective August 1, 2002:

Fifth Revised Sheet No. 146

Fifth Revised Sheet No. 234

Texas Gas states that this filing is being submitted pursuant to Commission Order No. 637, in which the Commission revised 18 CFR 250.16(b)(1) to no longer require that pipelines maintain a complete list of operating personnel and facilities shared by the interstate natural gas pipeline and its marketing or brokering affiliates within the pipeline's tariff.

Texas Gas states that copies of the revised tariff sheets are being mailed to Texas Gas's jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-17173 Filed 7-8-02; 8:45 am]

BILLING CODE 6717-01-P